ENVIRONMENTAL PROTECTION AGENCY

[FRL -7879-6]

Science Advisory Board Staff Office; Notification of Upcoming Teleconferences of the Science Advisory Board, Second Generation Model Advisory Panel

AGENCY: Environmental Protection Agency (EPA).

ACTION: Notice.

SUMMARY: The EPA, Science Advisory Board (SAB) Staff Office announces two public teleconferences of the Second Generation Model (SGM) Advisory Panel.

DATES: April 1, 2005 and May 6, 2005. Public teleconferences of the SAB Second Generation Model Advisory Panel will be held from 2 p.m. to 4 p.m. Eastern time on April 1, 2005 and from 2 p.m. to 4 p.m. Eastern time on May 6, 2005.

FOR FURTHER INFORMATION CONTACT: Members of the public who wish to obtain the call-in number and access code to participate in the teleconference may contact Dr. Holly Stallworth, Designated Federal Officer, at telephone: (202) 343-9867 or via e-mail at: stallworth.holly@epa.gov. Agendas and any other background materials for these teleconferences will be posted on the SAB Web site at: (http://www.epa.gov/sab/panels/sgm_adv_panel.htm) prior to each teleconference.

Technical Contact: The technical contact in EPA's Office of Atmospheric Programs for the Second Generation Model is Michael Leifman who can be reached at leifman.michael@epa.gov or 202-343-9380.

SUPPLEMENTARY INFORMATION: Background: Background on the Second Generation Model Advisory Panel was provided in an earlier Notice published on July 9, 2004 (69 FR 41474-41475). Subsequent Notices published on November 18, 2004 (69 FR 67579-67580) and January 6, 2005 (70 FR 1245-1246) provided notice of a December 2, 2004 teleconference and a February 4, 2005 face-to-face meeting of the SGM Advisory Panel respectively. Posted on the SAB Web site (http://www.epa.gov/sab/) are a final roster of the Panel and charge questions from the Office of Atmospheric Programs. Additional background material on the Second Generation Model may be found at: http://www.epa.gov/air/sgm_sab.html. The upcoming teleconferences to be held on April 1 and May 6 will provide panelists an opportunity to continue their discussions of the Second Generation Model and plan for the writing of their advice on this model.

Procedures for Providing Public Comment. It is the policy of the EPA Science Advisory Board (SAB) Staff Office to accept written public comments of any length, and to accommodate oral public comments whenever possible. The EPA SAB Staff Office expects that public statements presented at the Second Generation Model Advisory Panel's meetings will not be repetitive of previously submitted oral or written statements.

Oral Comments: Requests to provide oral comments must be in writing (e-mail, fax or mail) and received by Dr. Stallworth no later than five business days prior to the teleconference in order to reserve time on the meeting agenda. For teleconferences, opportunities for oral comment will usually be limited to no more than three minutes per speaker and no more than fifteen minutes total.

Written Comments: Although written comments are accepted until the date of the meeting (unless otherwise stated), written comments should be received in the SAB Staff Office at least five business days prior to the meeting date so that the comments may be made available to the committee for their consideration. Comments should be supplied to the DFO at the address/contact information noted above in the following formats: one hard copy with original signature, and one electronic copy via e-mail (acceptable file format: Adobe Acrobat, WordPerfect, Word, or Rich Text files (in IBM-PC/Windows 98/2000/XP format).

Dated: February 23, 2005.
Vanessa T. Vu,
Director, EPA Science Advisory Board Staff Office.

[FR Doc. 05-4004 Filed 3-1-05; 8:45 am]

BILLING CODE 6560-50-P